DEPARTMENT OF COMMERCE

International Trade Administration

[C-533-842]

Bottle-Grade Polyethylene Terephthalate (PET) Resin From India: Amended Final Affirmative Countervailing Duty Determination

AGENCY: Import Administration, International Trade Administration, U.S. Department of Commerce.

SUMMARY: On March 21, 2005, the Department of Commerce (Department) published in the Federal Register the final affirmative countervailing duty determination on bottle-grade polyethylene terephthalate (PET) resin from India for the period from April 1, 2003, to March 31, 2004. Final Affirmative Countervailing Duty Determination: Bottle-Grade Polyethylene Terephthalate (PET) Resin from India, 70 FR 13460 (March 21, 2005) (Final Determination). We are amending our Final Determination to correct certain ministerial errors alleged by Reliance Industries Ltd. (Reliance) pursuant to section 751(h) of the Tariff Act of 1930, as amended (the Act). See “Amended Final Results of Review” section, below.

EFFECTIVE DATE: April 22, 2005.

FOR FURTHER INFORMATION CONTACT: Douglas Kirby or Sean Carey at (202) 482-3782 and (202) 482-3964, respectively; AD/CVD Operations, Office 6, Import Administration, International Trade Administration, U.S. Department of Commerce, 14th Street and Constitution Avenue, NW., Washington, DC 20230.

SUPPLEMENTARY INFORMATION:

Scope of the Investigation

The merchandise covered in this investigation is polyethylene terephthalate (PET) bottle-grade resin, defined as having an intrinsic viscosity of at least 0.68 deciliters per gram but not more than 0.86 deciliters per gram. The scope includes bottle-grade PET resin that contains various additives introduced in the manufacturing process. The scope does not include post-consumer recycle (PCR) or post-industrial recycle (PIR) PET resin; however, included in the scope is any bottle-grade PET resin blend of virgin PET bottle-grade resin and recycled PET (RPET). Waste and scrap PET are outside the scope of the investigation. Fiber-grade PET resin, which has an intrinsic viscosity of less than 0.68 decliliters per gram, is also outside the scope of the investigation.

The merchandise subject to this investigation is properly classified under subheading 3907.60.0010 of the Harmonized Tariff Schedule of the United States (HTSUS); however, merchandise classified under HTSUS subheading 3907.60.0050 that otherwise meets the written description of the scope is also subject to these investigations. Although the HTSUS subheadings are provided for convenience and customs purposes, the written description of the merchandise under investigation is dispositive.

Background

On March 21, 2005, the Department published the Final Determination for its countervailing duty investigation of bottle grade PET Resin from India. On March 25, 2005, in accordance with section 751(h) of the Act and 19 CFR 351.224(c)(2), Reliance filed timely allegations that the Department erred in calculating the countervailing duty rate for the Final Determination. First, according to Reliance, the Department erred by using an incorrect benchmark interest rate for calculating the countervailable benefits from the State of Maharashtra and State of Gujarat Programs. Second, Reliance alleged that the Department made several typographical errors by incorrectly transcribing the benchmark interest rate for certain imports made pursuant to the Export Promotion Capital Goods Scheme (EPCGS) program during the first quarter of 2003.

After reviewing Reliance's allegations, we have determined that the Department did make the errors alleged by Reliance and that those errors are ministerial errors as defined in section 751(h) of the Act and 19 CFR 351.224(f). Therefore, we are amending the Final Determination to correct the above-described ministerial errors. We agree with Reliance that the Department stated in the Final Determination that it would use the company-specific lending rate for the POI as the benchmark interest rate for the State of Maharashtra and State of Gujarat Programs but in the calculations, we used a different benchmark interest rate. We also agree with Reliance that we made a few typographical errors in transcribing the benchmark interest rate for the EPCGS program that was applied to certain imports under this program during the first quarter of 2003. Accordingly, in this amended final determination we have corrected these errors. See Analysis Memorandum for Amended Final Countervailing Duty Determination; PET Resin from India, dated April 18, 2005.

Amended Final Results of Review

In the Final Determination, the Department determined the countervailing duty rate for Reliance to be 20.26 percent ad valorem, and the “All Others” rate to be 14.63 percent ad valorem. As a result of correcting the ministerial errors, the Department has amended the countervailing duty rate for Reliance and the “All Others” rate. The rates for Elque Polyesters Ltd., Futura Polyesters Ltd., and South Asia Petrochem Ltd. have not changed since the Final Determination. The correct countervailing duty rates are shown below:

Producer/exporter | Subsidy rate
Reliance Industries Ltd. | 19.97% ad valorem.
South Asia Petrochem Ltd. | 19.08% ad valorem.
Futura Polyesters Ltd. | 6.15% ad valorem.
Elque Polyesters Ltd. | 12.41% ad valorem.
All Others | 14.55% ad valorem.

Suspension of Liquidation

In accordance with our preliminary determination, we instructed U.S. Customs and Border Protection (CBP) to suspend liquidation of all entries of PET Resin from India, which were entered or withdrawn from warehouse, for consumption on or after August 30, 2004, the date of the publication of our Preliminary Determination in the Federal Register. In accordance with section 703(d) of the Act, we instructed CBP to discontinue the suspension of liquidation for merchandise entered on or after December 28, 2004, but to continue the suspension of liquidation of entries made between August 30, 2004, through December 27, 2004.

If the International Trade Commission (ITC) issues a final affirmative injury determination, we will issue a countervailing duty order, reinstate suspension of liquidation under section 706(a) of the Act for all entries, and require a cash deposit of estimated countervailing duties for such entries of merchandise at the rates indicated above. If the ITC determines that material injury, or threat of material injury, does not exist, this proceeding will be terminated and all estimated duties deposited or securities posted as a result of the suspension of liquidation will be refunded or canceled.

ITC Notification

In accordance with section 705(d) of the Act, we will notify the ITC of our amended final countervailing duty determination. In addition, we are mailing available to the ITC all non-privileged and non-proprietary information related to this investigation. We will allow the ITC access to all privileged and business proprietary information in our files, provided that the ITC confirms that it will not disclose such information, either publicly or under an administrative protective order (APO), without the written consent of the Assistant Secretary for Import Administration.

Return or Destruction of Proprietary Information

In the event that the ITC issues a final negative injury determination, this notice will serve as the only reminder to parties subject to APO of their responsibility concerning the destruction of proprietary information disclosed under APO in accordance with 19 CFR 351.305(a)(3). Failure to comply is a violation of the APO.

This determination is issued and published pursuant to sections 705(d) and 777(i) of the Act.

Dated: April 18, 2005.
Joseph A. Spetrini,
Acting Assistant Secretary for Import Administration.

[FR Doc. 05-8132 Filed 4-21-05; 8:45 am]

BILLING CODE 3510-DS-M